DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Alabama:
Madison (FEMA Docket No.: B-2467). | City of Huntsville, (24-04-1487P). | The Honorable Thomas Battle, Jr., Mayor, City of Huntsville, 308 Fountain Cirle Southwest, 8th Floor, Huntsville, AL 35804. | City Hall, 308 Fountain Circle Southwest, Huntsville, AL 35804. | Dec. 19, 2024 | 010153
Madison (FEMA Docket No.: B-2467). | Town of Owens Cross Roads, (24-04-1487P). | The Honorable Tony K. Craig, Mayor, Town of Owens Cross Roads, 9032 U.S. Highway 431, Owens Cross Roads, AL 35763. | Town Hall, 9032 U.S. Highway 431, Owens Cross Roads, AL 35763. | Dec. 19, 2024 | 010218
Madison (FEMA Docket No.: B-2467). | Unincorporated areas of Madison County, (24-04-1487P). | Mac McCutcheon, Chair, Madison County Commission, 100 North Side Square, Suite 700, Huntsville, AL 35801. | Madison County Water Department, 266-C Shields Road, Huntsville, AL 35811. | Dec. 19, 2024 | 010151
Alaska: Valdez-Cordova Census Area, (FEMA Docket No.: B-2454). | City of Valdez, (23-10-0729P). | John Douglas, Manager, City of Valdez, P.O. Box 307, Valdez, AK 99686. | Planning Department, 212 Chenega Avenue, Valdez, AK 99686. | Oct. 18, 2024 | 020094
Colorado:
Arapahoe (FEMA Docket No.: B-2454). | City of Aurora, (23-08-0511P). | The Honorable Mike Coffman, Mayor, City of Aurora, 15151 East Alameda Parkway, Aurora, CO 80012. | Public Works Department, 15151 East Alameda Parkway, Suite 3200, Aurora, CO 80012. | Oct. 25, 2024 | 080002
Arapahoe (FEMA Docket No.: B-2454). | Unincorporated areas of Arapahoe County, (23-08-0511P). | Carrie Warren-Gully, Chair, Arapahoe County Board of Commissioners, 5334 South Prince Street, Littleton, CO 80120. | Arapahoe County Public Works and Development Department, 6924 South Lima Street, Centennial, CO 89112. | Oct. 25, 2024 | 080011
Florida:
Lake (FEMA Docket No.: B-2450). | City of Leesburg, (23-04-6313P). | Al Minner, Manager, City of Leesburg, P.O. Box 490630, Leesburg, FL 34749. | Planning and Zoning Department, 204 North 5th Street, Leesburg, FL 34748. | Oct. 28, 2024 | 120136
Lake (FEMA Docket No.: B-2450). | City of Leesburg, (24-04-0439P). | Al Minner, Manager, City of Leesburg, P.O. Box 490630, Leesburg, FL 34749. | Planning and Zoning Department, 204 North 5th Street, Leesburg, FL 34748. | Oct. 30, 2024 | 120136
Manatee (FEMA Docket No.: B-2450). | Unincorporated areas of Manatee County, (24-04-4428P). | Charlie Bishop, Manatee County Administrator, 1112 Manatee Avenue West, Bradenton, FL 34205. | Manatee County Administration Building, 1112 Manatee Avenue West, Bradenton, FL 34205. | Oct. 16, 2024 | 120153
Monroe (FEMA Docket No.: B-2450). | Unincorporated areas of Monroe County, (24-04-1868P). | The Honorable Holly Merrill Raschein, Mayor, Monroe County Board of Commissioners, 102050 Overseas Highway, Suite 234, Key Largo, FL 33037. | Monroe County Building Department, 2798 Overseas Highway, Suite 300, Marathon, FL 33050. | Oct. 25, 2024 | 125129
Monroe (FEMA Docket No.: B-2450). | Unincorporated areas of Monroe County, (24-04-2924P). | The Honorable Holly Merrill Raschein, Mayor, Monroe County Board of Commissioners, 102050 Overseas Highway, Suite 234, Key Largo, FL 33037. | Monroe County Building Department, 2798 Overseas Highway, Suite 300, Marathon, FL 33050. | Nov. 1, 2024 | 125129
Orange (FEMA Docket No.: B-2450). | Unincorporated areas of Orange County, (24-04-0781P). | The Honorable Jerry L. Demings, Mayor, Orange County, 201 South Rosalind Avenue, 5th Floor, Orlando, FL 32801. | Orange County, Public Works Department, Stormwater Management Division, 4200 South John Young Parkway, Orlando, FL 32839. | Oct. 24, 2024 | 120179
Osceola (FEMA Docket No.: B-2450). | Unincorporated areas of Osceola County, (24-04-0625P). | Donald Fisher, Osceola County Manager, 1 Courthouse Square, Suite 4700, Kissimmee, FL 34741. | Osceola County Public Works Department, 1 Courthouse Square, Suite 3100, Kissimmee, FL 34741. | Oct. 25, 2024 | 120189
Sumter (FEMA Docket No.: B-2454). | City of Wildwood, (23-04-2994P). | Jason F. McHugh, Manager, City of Wildwood, 100 North Main Street, Wildwood, FL 34785. | Sumter County Administration Building, 7375 Powell Road, Wildwood, FL 34785. | Nov. 1, 2024 | 120299
Sumter (FEMA Docket No.: B-2454). | City of Wildwood, (23-04-3894P). | Jason F. McHugh, Manager, City of Wildwood, 100 North Main Street, Wildwood, FL 34785. | Sumter County Administration Building, 7375 Powell Road, Wildwood, FL 34785. | Nov. 4, 2024 | 120299
Sumter (FEMA Docket No.: B-2454). | Unincorporated areas of Sumter County, (23-04-2994P). | Craig A. Estep, Chair, Sumter County Board of Commissioners, 7375 Powell Road, Wildwood, FL 34785. | Sumter County Administration Building, 7375 Powell Road, Wildwood, FL 34785. | Nov. 1, 2024 | 120296
Sumter (FEMA Docket No.: B-2454). | Unincorporated areas of Sumter County, (23-04-3894P). | Craig A. Estep, Chair, Sumter County Board of Commissioners, 7375 Powell Road, Wildwood, FL 34785. | Sumter County Administration Building, 7375 Powell Road, Wildwood, FL 34785. | Nov. 4, 2024 | 120296
Maryland:
Frederick (FEMA Docket No.: B-2454). | City of Frederick, (24-03-0557P). | The Honorable Michael O'Connor, Mayor, City of Frederick, 101 North Court Street, Frederick, MD 21701. | City Hall, 140 West Patrick Street, Frederick, MD 21701. | Nov. 4, 2024 | 240030
Frederick (FEMA Docket No.: B-2454). | Unincorporated areas of Frederick County, (24-03-0557P). | Jessica Fitzwater, Frederick County Executive, 12 East Church Street, Frederick, MD 21701. | Frederick County Government Center, 12 East Church Street, Frederick, MD 21701. | Nov. 4, 2024 | 240027
Pennsylvania:
Lehigh (FEMA Docket No.: B-2454). | Township of Lower Macungie, (24-03-0106P). | Brian P. Higgins, President, Township of Lower Macungie Board of Commissioners, 3400 Brookside Road, Macungie, PA 18062. | Township Hall, 3400 Brookside Road, Macungie, PA 18062. | Nov. 4, 2024 | 420589
Northampton (FEMA Docket No.: B-2450). | Township of Lower Nazareth, (23-03-0866P). | Lori A. Stauffer, Township of Lower Nazareth Manager, 623 Municipal Drive, Nazareth, PA 18064. | Township Hall, 623 Municipal Drive, Nazareth, PA 18064. | Oct. 24, 2024 | 422253
South Carolina:
Sumter (FEMA Docket No.: B-2460). | City of Sumter (23-04-6479P). | The Honorable David P. Merchant, Mayor, City of Sumter, P.O. Box 1449, Sumter, SC 29150. | Sumter City-County Planning Department, 12 West Liberty Street, Suite C, Sumter, SC 29150. | Nov. 4, 2024 | 450184
Sumter (FEMA Docket No.: B-2460). | Unincorporated areas of Sumter County (23-04-6479P). | James T. McCain, Jr., Chair, Sumter County Council, 13 East Canal Street, Sumter, SC 29150. | Sumter City-County Planning Department, 12 West Liberty Street, Suite C, Sumter, SC 29150. | Nov. 4, 2024 | 450182
Texas:
Bexar and Guadalupe (FEMA Docket No.: B-2460). | City of Schertz (22-06-2567P). | The Honorable Ralph Gutierrez, Mayor, City of Schertz, 1400 Schertz Parkway, Schertz, TX 78154. | City Hall, 1400 Schertz Parkway, Schertz, TX 78154. | Nov. 4, 2024 | 480269
Bexar (FEMA Docket No.: B-2460). | Unincorporated areas of Bexar County (22-06-2567P). | The Honorable Peter Sakai, Bexar County Judge, 101 West Nueva Street, 10th Floor, San Antonio, TX 78205. | Bexar County Courthouse, 100 Dolorosa Street, San Antonio, TX 78205. | Nov. 4, 2024 | 480035
Collin (FEMA Docket No.: B-2450). | City of Princeton, (24-06-0140P). | The Honorable Brianna Chacón, Mayor, City of Princeton, 2000 East Princeton Drive, Princeton, TX 75407. | City Hall, 2000 East Princeton Drive, Princeton, TX 75407. | Oct. 21, 2024 | 480757
Denton (FEMA Docket No.: B-2454). | City of Frisco, (24-06-0061P). | The Honorable Jeff Cheney, Mayor, City of Frisco, 6101 Frisco Square Boulevard, Frisco, TX 75034. | City Hall, 6101 Frisco Square Boulevard, Frisco, TX 75034. | Nov. 4, 2024 | 480134
Ellis (FEMA Docket No.: B-2450). | City of Red Oak, (24-06-0092P). | The Honorable Mark Stanfill, Mayor, City of Red Oak, P.O. Box 393, Red Oak, TX 75154. | City Hall, 101 South Live Oak Street, Red Oak, TX 75154. | Nov. 4, 2024 | 481650
Ellis (FEMA Docket No.: B-2450). | Unincorporated areas of Ellis County, (24-06-0092P). | The Honorable Todd Little, Ellis County Judge, 101 West Main Street, Waxahachie, TX 75165. | Ellis County Courts and Administration, 109 South Jackson Street, Waxahachie, TX 75165. | Nov. 4, 2024 | 480798
Kaufman (FEMA Docket No.: B-2454). | Unincorporated areas of Kaufman County, (24-06-1281P). | The Honorable Jakie Allen, Kaufman County Judge, 1902 East U.S. Highway 175, Kaufman, TX 75142. | Kaufman County Development Services Department, 101 North Houston Street, Kaufman, TX 75142. | Oct. 25, 2024 | 480411
Tarrant (FEMA Docket No.: B-2460). | City of Fort Worth (23-06-1147P). | The Honorable Mattie Parker, Mayor, City of Fort Worth 200 Texas Street, Fort Worth, TX 76102. | Department of Transportation and Public Works, Engineering Vault and Map Repository, 200 Texas Street, Fort Worth, TX 76102. | Nov. 4, 2024 | 480596
Tarrant (FEMA Docket No.: B-2450). | City of Fort Worth, (23-06-2360P). | The Honorable Mattie Parker, Mayor, City of Fort Worth, 200 Texas Street, Fort Worth, TX 76102. | Department of Transportation and Public Works, Engineering Vault and Map Repository, 200 Texas Street, Fort Worth, TX 76102. | Oct. 21, 2024 | 480596
Tarrant (FEMA Docket No.: B-2450). | City of Haltom City, (23-06-2452P). | The Honorable An Truong, Mayor, City of Haltom City, 5024 Broadway Avenue, Haltom City, TX 76117. | Public Works Department, 4200 Hollis Street, Haltom City, TX 76111. | Oct. 21, 2024 | 480599
Tarrant (FEMA Docket No.: B-2460). | City of White Settlement (23-06-1147P). | The Honorable Faron Young, Mayor, City of White Settlement, 214 Meadow Park Drive, White Settlement, TX 76108. | City Hall, 214 Meadow Park Drive, White Settlement, TX 76108. | Nov. 4, 2024 | 480617
Washington, DC (FEMA Docket No.: B-2454). | District of Columbia, (23-03-0609P). | The Honorable Muriel Bowser, Mayor, District of Columbia, 1350 Pennsylvania Avenue Northwest, Washington, DC 20004. | Department of Energy and Environment, 1200 1st Street Northeast, 5th Floor, Washington, DC 20002. | Oct. 30, 2024 | 110001

[FR Doc. 2024-27539 Filed 11-22-24; 8:45 am]

BILLING CODE 9111-12-P